DEPARTMENT OF DEFENSE

Department of the Army; Corps of Engineers

Public Scoping Meetings for Update of the Water Control Manual for the Alabama-Coosa-Tallapoosa River Basin in Alabama and Georgia

AGENCY: Department of the Army, U.S. Army Corps of Engineers, DoD.

ACTION: Supplement to Notice of Intent.

SUMMARY: The U.S. Army Corps of Engineers (Corps), Mobile District, issued a Notice of Intent (NOI) in the Federal Register (72 FR 63561), published on November 9, 2007, describing the preparation of a Draft Environmental Impact Statement (EIS), as required by the National Environmental Policy Act (NEPA), to address the proposed update of the Water Control Manual (WCM) for the Alabama-Coosa-Tallapoosa (ACT) River Basin.

The Corps will hold four public scoping meetings during the month of September as part of its review and update of the WCM for the ACT River Basin. The public is invited to attend the scoping meetings which will provide information on the WCM update process and afford the opportunity to receive input from the public about their issues and concerns regarding that process. All four public meetings will be held using an open house format, allowing time for participants to review specific information and to provide comments to the resource staff attending the meeting.

DATES: The meeting dates are:

1. September 15, 2008, 5 p.m.-8 p.m (EDT),Cobb County, GA.

2. September 16, 2008, 5 p.m.-8 p.m. (EDT), Rome, GA.

3. September 17, 2008, 5 p.m.-8 p.m. (CDT), Gadsden, AL.

4. September 18, 2008, 5 p.m.-8 p.m. (CDT), Montgomery, AL.

ADDRESSES: The meeting locations are:

1. Cobb County, GA—Ben Robertson Community Center, Banquet Room, 2753 Watts Drive, Kennesaw, GA 30144, (770) 422-9714.

2. Rome, GA—The Forum Civic Center, Riverwalk Ballroom, 2 Government Plaza, Rome, GA 30161, (706) 291-5281.

3. Gadsden, AL—Senior Center Auditorium, 623 Broad Street, Gadsden, AL 35901, (256) 549-4740

4. Montgomery, AL—Quality Inn (Old Governors House), Alabama Room, 2705 East South Blvd., Montgomery, AL 36116, (334) 288-2800.

FOR FURTHER INFORMATION CONTACT: Questions about the manual update or NEPA process can be answered by: Mr. Chuck Sumner, Environment and Resources Branch, Planning and Environmental Division, U.S. Army Engineer District—Mobile, Post Office Box 2288, Mobile, AL 36628-0001; Telephone (251) 694-3857; or delivered by electronic facsimile at (251) 694-3815; or e-mail: lewis.c.sumner@usace.army.mil. You may also request to be included on the mailing list for public distribution of notices, meeting announcements and documents.

SUPPLEMENTARY INFORMATION: Additional information on the ACT River Basin and the Water Control Manual Update process will be posted on the Mobile District Web page as it becomes available: http://www.sam.usace.army.mil.

Date: August 15, 2008.
Byron G. Jorns,
Colonel, Corps of Engineers, District Commander.

[FR Doc. E8-19487 Filed 8-21-08; 8:45 am]

BILLING CODE 3710-CR-P